DEPARTMENT OF COMMERCE

National Oceanic and Atmospheric Administration

[RTID 0648-XD730]

Pacific Fishery Management Council; Public Meetings

AGENCY: National Marine Fisheries Service (NMFS), National Oceanic and Atmospheric Administration (NOAA), Commerce.

ACTION: Notice of public meetings.

SUMMARY: The Pacific Fishery Management Council (Council) and its advisory bodies will meet March 5-11, 2024 in Fresno, CA and via webinar. The Council meeting will be live streamed with the opportunity to provide public comment remotely. The following groups will meet in person in Fresno: Salmon Technical Team, Salmon Advisory Subpanel, Ecosystem Advisory Subpanel, Ecosystem Workgroup, Enforcement Consultants, Habitat Committee, Groundfish Management Team, Groundfish Advisory Subpanel, and the Scientific and Statistical Committee.

DATES: The Pacific Council Advisory Bodies will meet on Tuesday, March 5, 2024. The Pacific Council meeting General Session will begin on Wednesday, March 6, 2024, at 9 a.m. Pacific time, reconvening at 8 a.m. on Thursday, March 7 through Monday, March 11, 2024. All meetings are open to the public, except for a Closed Session held from 8 a.m. to 9 a.m., Wednesday, March 6, to address litigation and personnel matters. The Pacific Council will meet as late as necessary each day to complete its scheduled business.

ADDRESSES:

Meeting address: Meetings of the Pacific Council and its advisory entities will be held at the Doubletree by Hilton Hotel Fresno Convention Center, 2233 Ventura Street, Fresno, CA; telephone: (559) 268-1000. Specific meeting information, including directions on joining the meeting, connecting to the live stream broadcast, and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Mr. Merrick Burden, Executive Director, Pacific Council; telephone: (503) 820-2418 or (866) 806-7204 toll-free, or access the Pacific Council website, www.pcouncil.org, for the proposed agenda and meeting briefing materials.

SUPPLEMENTARY INFORMATION: The March 6-11, 2024 meeting of the Pacific Council General Session will be streamed live on the internet. The broadcasts begin initially at 9 a.m. PT Wednesday, March 6, and 8 a.m. Thursday, March 7 through Monday, March 11, 2024. Broadcasts end when business for the day is complete. Only the audio portion and presentations displayed on the screen at the Pacific Council meeting will be broadcast. The audio portion for the public is listen-only except that an opportunity for oral public comment will be provided prior to Council Action on each agenda item. Additional information and instructions on joining or listening to the meeting can be found on the Pacific Council's website (see www.pcouncil.org).

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, and advisory entity meeting times, are described in Agenda Item A.3, Proposed Council Meeting Agenda, and will be in the advance March 2024 briefing materials and posted on the Pacific Council website at www.pcouncil.org no later than Tuesday, February 13, 2024.

A. Call to Order

1. Opening Remarks

2. Roll Call

3. Agenda

4. Executive Director's Report

B. Open Comment Period

1. Comments on Non-Agenda Items

C. Salmon Management

1. National Marine Fisheries Service Report

2. Review of 2023 Fisheries and Summary of 2024 Stock Forecasts

3. Klamath Dam Removal Update

4. Klamath River Fall Chinook Workgroup Report and 2024 Management Options—Final Guidance

5. Identify Management Objectives and Preliminary Definition of 2024 Management Alternatives

6. Recommendations for 2024 Management Alternative Analysis

7. Further Direction for 2024 Management Alternatives

8. Further Direction for 2024 Management Alternatives

9. Adopt 2024 Management Alternatives for Public Review

10. Appoint Salmon Hearing Officers

D. Habitat Issues

1. Current Habitat Issues

E. Cross Fishery Management Plan (FMP)

1. Council and Scientific and Statistical Committee Discussion

2. Office of National Marine Sanctuaries Coral Restoration and Research Plan—Range of Alternatives and Preliminary Preferred Alternative

3. Marine Planning

F. Groundfish Management

1. National Marine Fisheries Service Report and Electronic Monitoring Update

2. Consideration of Additional California Quillback Rockfish Analyses and Adopt Rebuilding Analysis

3. Initial Stock Assessment Plan and Terms of Reference

4. Trawl Cost Recovery Annual Report

5. Implementation of the 2024 Pacific Whiting Fishery under the U.S./Canada Agreement

6. Fixed Gear Marking and Entanglement Risk Reduction—Preliminary Preferred Alternative

7. 2025-26 Fisheries Analysis Update and Adopt California Quillback Rockfish Harvest Specifications and Rebuilding Parameters

8. Inseason Adjustments—Final Action

G. Pacific Halibut Management

1. International Pacific Halibut Commission (IPHC) Report

2. Incidental Catch Recommendations: Options for Salmon Troll and Final Action for Fixed Gear Sablefish Fisheries

H. Ecosystem Management

1. California Current Ecosystem Status Report

2. Fishery Ecosystem Plan Initiative 4—Progress Review

3. Climate and Communities Initiative Review and Prioritize Tasks

I. Highly Migratory Species Management

1. National Marine Fisheries Service Report

2. International Management Activities

3. Highly Migratory Species Roadmap Workshop—Final Planning

J. Administrative Matters

1. Approve Council Meeting Record

2. Membership Appointments and Council Operating Procedures

3. Future Council Meeting Agenda and Workload Planning

Advisory Body Agendas

Advisory body agendas will include discussions of relevant issues that are on the Pacific Council agenda for this meeting and may also include issues that may be relevant to future Council meetings. Proposed advisory body agendas for this meeting will be available on the Pacific Council website, www.pcouncil.org, no later than Tuesday, February 13, 2024.

Schedule of Ancillary Meetings

Day 1—Tuesday, March 5, 2024

Habitat Committee 8 a.m.

Salmon Advisory Subpanel 8 a.m.

Salmon Technical Team 8 a.m.

Scientific and Statistical Committee 8 a.m.

Enforcement Consultants 9 a.m.

Day 2—Wednesday, March 6, 2024

California State Delegation 7 a.m.

Oregon State Delegation 7 a.m.

Washington State Delegation 7 a.m.

Groundfish Advisory Subpanel 8 a.m.

Groundfish Management Team 8 a.m.

Habitat Committee 8 a.m.

Salmon Advisory Subpanel 8 a.m.

Salmon Technical Team 8 a.m.

Scientific and Statistical Committee 8 a.m.

Enforcement Consultants As Necessary

Day 3—Thursday, March 7, 2024

California State Delegation 7 a.m.

Oregon State Delegation 7 a.m.

Washington State Delegation 7 a.m.

Ecosystem Advisory Subpanel 8 a.m.

Ecosystem Workgroup 8 a.m.

Groundfish Advisory Subpanel 8 a.m.

Groundfish Management Team 8 a.m.

Salmon Advisory Subpanel 8 a.m.

Salmon Technical Team 8 a.m.

Enforcement Consultants As Necessary

Day 4—Friday, March 8, 2024

California State Delegation 7 a.m.

Oregon State Delegation 7 a.m.

Washington State Delegation 7 a.m.

Ecosystem Advisory Subpanel 8 a.m.

Ecosystem Workgroup 8 a.m.

Groundfish Advisory Subpanel 8 a.m.

Groundfish Management Team 8 a.m.

Salmon Advisory Subpanel 8 a.m.

Salmon Technical Team 8 a.m.

Enforcement Consultants As Necessary

Day 5—Saturday, March 9, 2024

California State Delegation 7 a.m.

Oregon State Delegation 7 a.m.

Washington State Delegation 7 a.m.

Groundfish Advisory Subpanel 8 a.m.

Groundfish Management Team 8 a.m.

Salmon Advisory Subpanel 8 a.m.

Salmon Technical Team 8 a.m.

Enforcement Consultants As Necessary

Day 6—Sunday, March 10, 2024

California State Delegation 7 a.m.

Oregon State Delegation 7 a.m.

Washington State Delegation 7 a.m.

Salmon Advisory Subpanel 8 a.m.

Salmon Technical Team 8 a.m.

Enforcement Consultants As Necessary

Day 7—Monday, March 11, 2024

California State Delegation 7 a.m.

Oregon State Delegation 7 a.m.

Washington State Delegation 7 a.m.

Salmon Technical Team 8 a.m.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 business days prior to the meeting date.

Authority: 6 U.S.C. 1801 et seq.

Dated: February 13, 2024.
Rey Israel Marquez,
Acting Deputy Director, Office of Sustainable Fisheries, National Marine Fisheries Service.

[FR Doc. 2024-03304 Filed 2-15-24; 8:45 am]

BILLING CODE 3510-22-P